DEPARTMENT OF JUSTICE

Notice of Extension to Public Comment Period for Consent Decree Lodged Under the Comprehensive Environmental Response, Compensation, and Liability Act

On May 17, 2012, the United States published a notice that a proposed Consent Decree had been lodged with the United States District Court for the District of Massachusetts in United States v. Bayer CropScience Inc. et al., Civil Action No. 1:12-cv-10847 and Commonwealth of Massachusetts v. Bayer CropScience Inc. et al., Civil Action No. 1:12-cv-10849, related to natural resource damages claims of the United States and the Commonwealth of Massachusetts against Bayer CropScience Inc. and Pharmacia Corporation in connection with the Industri-plex Superfund Site, located in Woburn, Massachusetts. 77 FR 29361. That notice indicated that the Department of Justice would receive comments concerning the settlement for a period of 30 days from the date of the notice. In response to a comment submitted during the intital comment period that requested additional information concerning the settlement and that the comment period be extended, the United States is posting information related to the settlement at the following Web site, http://www.fws.gov/newengland/, and is extending the public comment period. The Department of Justice will receive for a period of thirty (30) days from the date of this publication any additional comments relating to the proposed Consent Decree. Comments should be addressed to the Assistant Attorney General, Environment and Natural Resources Division, P.O. Box 7611, U.S. Department of Justice, Washington, DC 20044-7611, and should refer to United States v. Bayer CropScience Inc., D.J. Ref. 90-11-2-228/7. Comments may also be submitted by email to pubcomment-ees.enrd@usdoj.gov. A copy of the comments should be sent to Donald G. Frankel, Senior Counsel, Environmental Enforcement Section, Department of Justice, Suite 616, One Gateway Center, Newton, MA 02458 (donald.frankel@usdoj.gov).

During this extended public comment period, the Consent Decree may be examined on the following Department of Justice Web site, http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. In requesting a copy of the Consent Decree from the Consent Decree Library, please enclose a check in the amount of $5.50 (25 cents per page reproduction cost) payable to the U.S. Treasury (if the request is by fax or email, forward a check to the Consent Decree library at the address stated above).

Ronald G. Gluck,
Assistant Section Chief, Environmental Enforcement Section, Environment and Natural Resources Division.

[FR Doc. 2012-20088 Filed 8-15-12; 8:45 am]

BILLING CODE 4410-15-P